FEDERAL COMMUNICATIONS COMMISSION

47 CFR Parts 15 and 79

[MB Docket No. 11-154; DA 11-1766]

Closed Captioning of Internet Protocol-Delivered Video Programming: Implementation of the Twenty-First Century Communications and Video Accessibility Act of 2010

AGENCY: Federal Communications Commission.

ACTION: Proposed rule; extension of reply comment period.

SUMMARY: In this document, the Commission extends the deadline for filing reply comments on the Commission's Notice of Proposed Rulemaking (NPRM) in this proceeding, which was published in the Federal Register on September 28, 2011. The extension will facilitate the development of a full record given the importance of the issues in this proceeding.

DATES: The reply comment period for the proposed rule published September 28, 2011 (76 FR 59963) is extended. Submit reply comments on or before November 1, 2011.

ADDRESSES: You may submit reply comments, identified by MB Docket No. 11-154, by any of the following methods:

• Federal eRulemaking Portal: http://www.regulations.gov. Follow the instructions for submitting comments.

• Federal Communications Commission's Electronic Comment Filing System (ECFS) Web Site: http://www.fcc.gov/cgb/ecfs. Follow the instructions for submitting comments.

• Mail: Filings can be sent by hand or messenger delivery, by commercial overnight courier, or by first-class or overnight U.S. Postal Service mail. All filings must be addressed to the Commission's Secretary, Office of the Secretary, Federal Communications Commission.

• People with Disabilities: Contact the FCC to request reasonable accommodations (accessible format documents, sign language interpreters, CART, etc.) by email: FCC504@fcc.gov or phone (202) 418-0530 or TTY: (202) 418-0432.

For detailed instructions on submitting comments and additional information on the rulemaking process, see the SUPPLEMENTARY INFORMATION section of the NPRM.

FOR FURTHER INFORMATION CONTACT: Diana Sokolow, Policy Division, Media Bureau, at (202) 418-2120, or email at Diana.Sokolow@fcc.gov.

SUPPLEMENTARY INFORMATION: This is a summary of the Commission's Order in MB Docket No. 11-154, DA 11-1766, adopted and released on October 21, 2011, which extends the reply comment filing deadline established in the NPRM published under FCC No. 11-138 at 76 FR 59963, September 28, 2011. The full text of this document is available for inspection and copying during normal business hours in the FCC Reference Center, 445 12th Street, SW., Washington, DC 20554. The complete text may be purchased from the Commission's copy contractor, Best Copy and Printing, Inc., 445 12th Street, SW., Room CY-B402, Washington, DC 20554. The full text may also be downloaded at: http://www.fcc.gov. Alternative formats are available to persons with disabilities by sending an email to fcc504@fcc.gov or by calling the Consumer & Governmental Affairs Bureau at (202) 418-0530 (voice), (202) 418-0432 (TTY).

Background

1. The NPRM in this proceeding established a comment deadline of October 18, 2011 and a reply comment deadline of October 28, 2011. On October 19, 2011, the National Association of Broadcasters (NAB) requested that the reply comment deadline be extended by one week, due to the volume of substantive material filed in the initial comments and the groundbreaking nature of the issues considered in the proceeding. We grant NAB's request in part.

2. As set forth in Section 1.46(a) of the Commission's Rules, 47 CFR 1.46(a), the Commission's policy is that extensions of time shall not be routinely granted. Given the importance of the issues in this proceeding and in the interest of encouraging thoughtful consideration of these issues, however, we believe that granting in part NAB's request is necessary to facilitate the development of a full record. Due to the Commission's statutory deadline in this proceeding, we find that the requested one week extension is too long, and instead we grant a four day extension of the reply comment deadline.

Ordering Clauses

Pursuant to Section 4(i) of the Communications Act of 1934, as amended, 47 U.S.C. 154(i), and Sections 0.61, 0.283, and 1.46 of the Commission's rules, 47 CFR 0.61, 0.283, and 1.46, the Motion for Extension of Time filed by NAB is granted in part, and the deadline to file reply comments in this proceeding is extended to November 1, 2011.

Federal Communications Commission.
William T. Lake,
Chief, Media Bureau.

[FR Doc. 2011-27975 Filed 10-27-11; 8:45 a.m.]

BILLING CODE 6712-01-P